DEPARTMENT OF THE INTERIOR

Bureau of Land Management

[LLAZ956000.L14200000.BJ0000.241A]

Notice of Filing of Plats of Survey; Arizona

AGENCY: Bureau of Land Management, Interior.

ACTION: Notice of Filing of Plats of Survey; Arizona.

SUMMARY: The plats of survey of the described lands were officially filed in the Arizona State Office, Bureau of Land Management, Phoenix, Arizona, on dates indicated.

SUPPLEMENTARY INFORMATION:

The Gila and Salt River Meridian, Arizona

The supplemental plat representing the amended lottings in section 33, Township 7 North, Range 5 East, accepted December 7, 2012, and officially filed December 10, 2012, Arizona.

This plat was prepared at the request of the Bureau of Land Management.

The supplemental amended protraction diagram representing the relocation of Homestead Entry 318, and replacing protraction blocks 38 and 39 in Township 7 North, Range 5 East, accepted December 10, 2012, and officially filed December 12, 2012, Arizona.

This plat was prepared at the request of the Bureau of Land Management.

The supplemental plat representing the amended lottings in section 15, Township 19 North, Range 19 West, accepted November 30, 2012, and officially filed December 3, 2012, Arizona.

This plat was prepared at the request of the Bureau of Land Management.

The plat representing the dependent resurvey of portions of the subdivisional lines and mineral survey numbers 264, 951 and 4128, in sections 21 and 22, and the remonumentation of certain corners, Township 22 South, Range 10 East, accepted November 19, 2012, and officially filed November 21, 2012, for Group 1104, Arizona.

This plat was prepared at the request of the United States Forest Service.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona, 85004-4427. Persons who use a telecommunications device for the deaf (TDD) may call the Federal Information Relay Service (FIRS) at 1-800-877-8339 to contact the above individual during normal business hours. The FIRS is available 24 hours a day, 7 days a week, to leave a message or question with the above individual. You will receive a reply during normal business hours.

Gary D. Knoff,
Acting Chief Cadastral Surveyor of Arizona.

[FR Doc. 2012-30927 Filed 12-21-12; 8:45 am]

BILLING CODE 4310-32-P